SMALL BUSINESS ADMINISTRATION

[Declaration of Disaster #3392]

State of Kansas; Amendment #1

In accordance with information received from the Federal Emergency Management Agency, dated February 15, 2002, the above numbered declaration is hereby amended to establish the incident period for this disaster as beginning on January 29, 2002 and continuing through February 15, 2002.

All other information remains the same, i.e., the deadline for filing applications for physical damage is April 8, 2002, and for loans for economic injury the deadline is November 7, 2002.

(Catalog of Federal Domestic Assistance Program Nos. 59002 and 59008)
Dated: February 21, 2002.
Herbert L. Mitchell,
Associate Administrator for Disaster Assistance.

[FR Doc. 02-4781 Filed 2-27-02; 8:45 am]

BILLING CODE 8025-01-P